OFFICE OF PERSONNEL MANAGEMENT

Submission for Review 3206-0261: Questionnaire for Non-Sensitive Positions (SF 85)

AGENCY: Office of Personnel Management.

ACTION: 30-Day notice and request for comments.

SUMMARY: The Office of Personnel Management (OPM) is requesting the Office of Management and Budget (OMB) renew a previously approved information collection, Questionnaire for Non-Sensitive Positions (SF 85).

DATES: Comments are encouraged and will be accepted until December 26, 2024.

ADDRESSES: Written comments and recommendations for the proposed information collection should be sent within 30 days of publication of this notice to http://www.reginfo.gov/public/do/PRAMain. Find this particular information collection request by selecting “Office of Personnel Management” under “Currently Under Review,” then check “Only Show ICR for Public Comment” checkbox.

FOR FURTHER INFORMATION CONTACT: A copy of this ICR, with applicable supporting documentation, may be obtained by email to SuitEAforms@opm.gov, or by contacting Lynnette Hornung 202-599-0090, or U.S. Office of Personnel Management, Suitability Executive Agent Programs, P.O. Box 699, Slippery Rock, PA 16057.

SUPPLEMENTARY INFORMATION: This notice announces that OPM has submitted to OMB a request for renewal of a previously approved information collection, control number 3206-0261, Questionnaire for Non-Sensitive Positions (SF 85). The public has an additional 30-day opportunity to comment. The 60 day Federal Register Notice was published on September 11, 2024 (89 FR 73730). No comments were received.

As required by the Paperwork Reduction Act of 1995, 44 U.S.C. 3506(c)(2), OPM is soliciting comments for this collection. The Office of Management and Budget is particularly interested in comment addressing the following issues: (1) whether this collection is necessary to the proper functions of OPM; (2) whether this information will be processed and used in a timely manner; (3) the accuracy of the burden estimates; (4) ways in which OPM might enhance the quality, utility, and clarity of the information to be collected; and (5) ways in which OPM might minimize the burden of this collection on the respondents, including through the use of information technology.

Background

The Questionnaire for Non-Sensitive Positions, Standard Form 85 (SF 85) is an information collection completed by applicants for, or incumbents of, Federal Government civilian positions, or positions in private entities performing work for the Federal Government under contract. The collection is used as the basis of information for background investigations to establish that such individuals are:

• Suitable for employment or retention in Federal employment in a low risk, non-sensitive position, or fit for employment or retention in Federal employment in the excepted service when the duties to be performed are equivalent to a low risk, non-sensitive position;

• Fit to perform work on behalf of the Federal Government pursuant to the Government contract, when the duties to be performed are equivalent to a low risk, non-sensitive position;

• Eligible for physical and logical access to federally controlled facilities or information systems, when the duties to be performed by the individual are equivalent to the duties performed by an employee in a low risk, non-sensitive position.

For applicants, the SF 85 is used only after a conditional offer of employment has been made. eApplication (eApp) is a web-based system application that houses the SF 85. A variable in assessing burden hours is the nature of the electronic application. The electronic application includes branching questions and instructions which provide for a tailored collection from the respondent based on varying factors in the respondent's personal history. The burden on the respondent is reduced when their personal history is not relevant to particular questions, since the question only branches or expands for additional details for those individuals who have pertinent information to provide regarding that line of questioning. Accordingly, the burden on the respondent will vary depending on whether the information collection relates to the respondent's personal history.

OPM requests renewal of the information collection for the SF 85. As we await the implementation of the Personnel Vetting Questionnaire, which was approved by the Office of Management and Budget (87 FR 71700 and 88 FR 12703) on November 15, 2023, agencies continue to use the SF 85 for investigations of individuals holding low risk non-sensitive positions.

As a result of a new fiscal year beginning after the posting of the 60 Day Notice on September 11, 2024, the number of respondents in the analysis has been updated from the average of 55,000 respondents in FY18, 19 and 20 to 239,900, which was the number of respondents in FY24. The actual estimated time per respondent has not changed and remains 120 minutes.

Analysis

Agency: Office of Personnel Management.

Title: Questionnaire for Non-Sensitive Positions, Standard Form 85 (SF 85).

OMB Number: 3206-0261.

Frequency: On occasion.

Affected Public: Individuals.

Number of Respondents: 239,200.

Estimated Time per Respondent: 120 minutes.

Total Burden Hours: 478,400.

Alexys Stanley,
Federal Register Liaison.

[FR Doc. 2024-27464 Filed 11-22-24; 8:45 am]

BILLING CODE 6325-66-P